COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and service to the Procurement List that will be furnished by nonprofit agencies employing persons who are blind or have other severe disabilities, and deletes services previously furnished by such agencies.

DATES: Comments must be received on or before: April 28, 2019.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSNs—Product Names:

7240-00-NIB-0024—Dolly, Round, 5-Wheeled, Quiet Wheels, Black/Red

7240-00-NIB-0025—Dolly, Round, 5-Wheeled, Black/Grey

Mandatory Source of Supply: MidWest Enterprises for the Blind, Inc., Kalamazoo, MI

Mandatory for Contracting Activity: Federal Acquisition Service, GSA/FSS Greater Southwest Acquisition

Service

Service Type: Custodial Service

Mandatory for Contracting Activity: US Air Force, Joint Base Elmendorf-Richardson, Anchorage, AK

Mandatory Source of Supply: CW Resources, Inc., New Briton, CT

Deletions

The following services are proposed for deletion from the Procurement List:

Services

Service Type: Janitorial/Custodial

Mandatory for: U.S. Army Reserve Center: 70 Rochester Hill Road, Rochester, NH

Mandatory Source of Supply: Northern New England Employment Services, Portland, ME

Contracting Activity: Dept of the Army, W6QM MICC CTR-FT DIX (RC)

Service Type: Janitorial/Mechanical Maintenance

Mandatory for: U.S. Federal Building: 3rd Avenue and 1st Street, Cullman, AL

Mandatory Source of Supply: Alabama Goodwill Industries, Inc., Birmingham, AL

Contracting Activity: Public Buildings Service, Acquisition Division/Services Branch

Patricia Briscoe,
Deputy Director, Business Operations (Pricing and Information Management).

[FR Doc. 2019-06095 Filed 3-28-19; 8:45 am]

BILLING CODE 6353-01-P